DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 12, 2004.

Interested persons are invited to submit written comments regarding the subject matter of the investigations to the Director, Division of Trade Adjustment Assistance, at the address shown below, not later than July 12, 2004.

The petitions filed in this case are available for inspection at the Office of the Director, Division of Trade Adjustment Assistance, Employment and Training Administration, U.S. Department of Labor, Room C-5311, 200 Constitution Avenue, NW., Washington, DC 20210.

Signed in Washington, DC this 25th day of June 2004.
Timothy Sullivan,
Director, Division of Trade Adjustment Assistance.

Appendix
[Petitions Instituted Between 06/14/2004 and 06/18/2004]
TA-W | Subject firm (petitioners) | Location | Date of institution | Date of petition
55,070 | Franklin Templeton Instruments (NPS) | Ft. Lauderdale, FL | 06/14/2004 | 06/14/2004
55,071 | Wellington Point, LLC (Comp) | Salt Lake City, UT | 06/14/2004 | 06/11/2004
55,072 | Jaymar-Rudy, Inc. d/b/a Trans-Apparel (Wkrs) | Michigan City, IN | 06/14/2004 | 06/10/2004
55,073 | R/D Tech (Comp) | Madison, PA | 06/14/2004 | 06/02/2004
55,074 | Dana Corporation (Wkrs) | El Paso, TX | 06/15/2004 | 05/25/2004
55,075 | Quitman Manufacturing Co. (Comp) | New York City, NY | 06/15/2004 | 06/06/2004
55,076 | Inflation Systems, Inc. (Comp) | LaGrange, GA | 06/15/2004 | 06/14/2004
55,077 | SMS Demag/PRO-ECO Ltd. (Wkrs) | Mentor, OH | 06/15/2004 | 06/14/2004
55,078 | N.E.W. Plastics Corp. (Comp) | Coleman, WI | 06/15/2004 | 06/14/2004
55,079 | OSRAM Sylvania (Wkrs) | Wincheser, KY | 06/15/2004 | 06/14/2004
55,080 | Vesuvius McDanel (Wkrs) | Beaver Falls, PA | 06/15/2004 | 06/14/2004
55,081 | National Distribution Center (Comp) | Lexington, KY | 06/15/2004 | 05/18/2004
55,082 | Chieftain Products Plant II (Wkrs) | Owosso, MI | 06/15/2004 | 06/14/2004
55,083 | Hawk Motors (Comp) | Alton, IL | 06/16/2004 | 06/04/2004
55,084 | Eastman Chemical Co. (Comp) | W. Elizabeth, PA | 06/16/2004 | 05/24/2004
55,085 | Jomed (CA) | San Diego, CA | 06/16/2004 | 06/15/2004
55,086 | Mayfield Cap Co. (Wkrs) | Mayfield, KY | 06/16/2004 | 06/09/2004
55,087 | Pasquier Panel Products (LSW) | Summer, WA | 06/16/2004 | 06/14/2004
55,088 | United Steel Enterprises, Inc. (Comp) | E. Stroudsburg, PA | 06/16/2004 | 06/15/2004
55,089 | Software House/Tyco International (Wkrs) | Lexington, MA | 06/16/2004 | 06/08/2004
55,090 | Vishay Dale Electronics (NE) | Norfolk, NE | 06/16/2004 | 06/15/2004
55,091 | Honeywell (Comp) | Rocky Mt., NC | 06/16/2004 | 06/14/2004
55,092 | Computer Sciences Corp. (NPW) | Somerset, NJ | 06/16/2004 | 06/10/2004
55,093 | Galey and Lord Industries, Inc. (Comp) | Shannon, GA | 06/16/2004 | 06/15/2004
55,094 | Executive Greetings, Inc., (CT) | New Hartford, CT | 06/16/2004 | 05/18/2004
55,095 | Gateway Country Store (NPW) | Davenport, IA | 06/16/2004 | 06/16/2004
55,096 | Elizabeth City Cotton Mills (Comp) | Elizabeth City, NC | 06/17/2004 | 06/14/2004
55,097 | Johnson Controls (MI) | Holland, MI | 06/17/2004 | 06/15/2004
55,098 | Pacific Crest Technology (NPS) | Tualatin, OR | 06/17/2004 | 06/16/2004
55,099 | J.P. Morgan Chase Bank (NPW) | Hicksville, NY | 06/17/2004 | 06/08/2004
55,100 | Stratus, Inc. (Comp) | Chattanooga, TN | 06/18/2004 | 06/10/2004
55,101 | Ideal Frame Co., Inc. (Comp) | Taylorsville, NC | 06/18/2004 | 06/15/2004
55,102 | ACS, Inc. (OR) | Portland, OR | 06/18/2004 | 06/17/2004
55,103 | C and S Sewing, Inc. (Wkrs) | San Francisco, CA | 06/18/2004 | 06/10/2004
55,104 | Albany International/Gesch May Corp. (Comp) | Greenville, SC | 06/18/2004 | 06/08/2004
55,105 | PowderJect (Wkrs) | Middleton, WI | 06/18/2004 | 06/09/2004
55,106 | Truth Hardware (Comp) | Pacoima, CA | 06/18/2004 | 06/17/2004
55,107 | Magnecomp Corp. (Comp) | Temecula, CA | 06/18/2004 | 06/09/2004

[FR Doc. 04-14910 Filed 6-30-04; 8:45 am]

BILLING CODE 4510-30-M